DEPARTMENT OF ENERGY

[FE Docket No. PP-235]

Application for Presidential Permit Sempra Energy Resources

AGENCY: Office of Fossil Energy, DOE.

ACTION: Notice of application.

SUMMARY: Sempra Energy Resources (SER) has applied for a Presidential permit to construct, operate, maintain, and connect a double-circuit electric transmission line across the U.S. border with Mexico.

DATES: Comments, protests, or requests to intervene must be submitted on or before April 23, 2001.

ADDRESSES: Comments, protests, or requests to intervene should be addressed as follows: Office of Coal & Power Import and Export (FE-27), Office of Fossil Energy, U.S. Department of Energy, 1000 Independence Avenue, SW, Washington, DC 20585-0350.

FOR FURTHER INFORMATION CONTACT: Ellen Russell (Program Office) 202-586-9624 or Michael T. Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On March 7, 2001, SER, a non-regulated generating company, filed an application with the Office of Fossil Energy (FE) of the Department of Energy (DOE) for a Presidential permit. SER proposes to construct a double-circuit 230,000 volt (230-kV) transmission line originating from San Diego Gas & Electric Company's (SDG&E) existing Imperial Valley Substation, located in Imperial County, California, and extending approximately six miles south to the United States border with Mexico. At the border, the SER facilities will interconnect with similar facilities owned by Termoeléctrica de Mexicali (TDM) and continue an additional three miles to a new 500-megawatt (MW) powerplant being developed by TDM west of the town of Mexicali, Baja California, Mexico.

In Mexico and in California, the transmission line proposed by SER will parallel SDG&E's existing Imperial Valley-La Rosita international transmission line (previously authorized by Presidential Permit PP-79), west of Calexico, California, and is proposed to be sited within land managed by the U.S. Bureau of Land Management.

In its application, SER proposes to transmit electricity from the TDM powerplant into the California electrical system. Transmission of electric energy from California to Mexico would occur only for purposes of providing “black start” capability to the powerplant.

Since restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the FPA and articulated in Federal Energy Regulatory Commission Order No. 888 (Promotion Wholesale Competition Through Open Access Non-Discriminatory Transmission Services by Public utilities; FERC Stats. & Regs. ¶ 31,036 (1996)), as amended. In furtherance of this policy, on July 27, 1999, (64 FR 40586) DOE initiated a proceeding in which it noticed its intention to condition existing and future Presidential permits, appropriate for third party transmission, on compliance with a requirement to provide non-discriminatory open access transmission service. That proceeding is not yet complete. However, in this docket DOE specifically requests comment on the appropriateness of applying the open access requirement on SER's proposed facilities.

Procedural Matters

Any person desiring to become a party to this proceeding or to be heard by filing comments or protests to this application should file a petition to intervene, comment or protest at the address provided above in accordance with §§ 385.211 or 385.214 of the FERC's rules of practice and procedures (18 CFR 385.211, 385.214). Fifteen copies of each petition and protest should be filed with the DOE on or before the date listed above.

Additional copies of such petitions to intervene or protests also should be filed directly with: Alberto Abreu, Director, Permitting and Licensing, Sempra Energy Resources, 101 Ash Street, PO Box 1831, San Diego, CA 92112-4150.

Before a Presidential permit may be issued or amended, the DOE must determine that the proposed action will not adversely impact on the reliability of the U.S. electric power supply system. In addition, DOE must consider the environmental impacts of the proposed action (i.e., granting the Presidential permit, with any conditions and limitations, or denying the permit) pursuant to the National Environmental Policy Act of 1969. DOE also must obtain the concurrence of the Secretary of State and the Secretary of Defense before taking final action on a Presidential permit application.

Copies of this application will be made available, upon request, for public inspection and copying at the address provided above. In addition, the application may be reviewed or downloaded from the Fossil Energy Home Page at: http://www.fe.doe.gov. Upon reaching the Fossil Energy Home page, select “Electricity” from the options menu, and then “Pending Proceedings.”

Issued in Washington, DC, on March 19, 2001.
Anthony J. Como,
Deputy Director, Electric Power Regulation, Office of Coal & Power Systems, Office of Coal & Power Im/Ex, Office of Fossil Energy.

[FR Doc. 01-7151 Filed 3-21-01; 8:45 am]

BILLING CODE 6450-01-P